DEPARTMENT OF THE INTERIOR

National Park Service

[NPS-WASO-NAGPRA-NPS0037458; PPWOCRADN0-PCU00RP14.R50000]

Notice of Intent To Repatriate Cultural Items: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) intends to repatriate certain cultural items that meet the definition of unassociated funerary objects that have a cultural affiliation with the Indian Tribes or Native Hawaiian organizations in this notice. The cultural items were removed from Cross County, AR.

DATES: Repatriation of the cultural items in this notice may occur on or after March 27, 2024.

ADDRESSES: Patricia Capone, PMAE, Harvard University, 11 Divinity Avenue, Cambridge, MA 02138, telephone (617) 496-3702, email pcapone@fas.harvard.edu.

SUPPLEMENTARY INFORMATION: This notice is published as part of the National Park Service's administrative responsibilities under NAGPRA. The determinations in this notice are the sole responsibility of the PMAE. The National Park Service is not responsible for the determinations in this notice. Additional information on the determinations in this notice, including the results of consultation, can be found in the summary or related records held by the PMAE.

Description

The 531 cultural items were removed from Cross County, Arkansas between 1879 and 1880 as part of Peabody Museum of Archaeology and Ethnology expeditions led by Edwin Curtiss. These cultural items consist of unassociated funerary objects from six sites. The 66 unassociated funerary objects at Fortune Mounds (state site number 3CS71; Parkin Phase) include 64 items that are present at the PMAE and two items that are not currently located. The 64 items present at the PMAE are two lots consisting of ceramic items, 50 lots consisting of ceramic vessel or vessel fragments, one lot consisting of charcoal, eight lots consisting of faunal items, and three lots consisting of stone items. The two lots not currently located are two lots consisting of faunal items.

The 95 unassociated funerary objects at Halcomb's Mounds (state site number 3CS28; Parkin Phase) include 94 objects that are present at the PMAE and one object that is not currently located. The 94 objects present are two lots consisting of ceramic items, 79 lots consisting of ceramic vessel or vessel fragments, five lots consisting of faunal items, five lots consisting of stone items, one lot consisting of clay items, one lot consisting of floral items, one lot consisting of an unidentified organic item. The one object not present is one lot consisting of ceramic vessel or vessel fragments.

The 156 unassociated funerary objects at Neeley's Ferry Mounds (state site number 3CS24; Parkin Phase) include 154 objects that are present at the PMAE and two objects that are not currently located. The 154 objects present at the PMAE are: six lots consisting of ceramic items, 116 lots consisting of ceramic vessel or vessel fragments, 22 lots consisting of faunal items, seven lots consisting of stone items, one lot consisting of floral items, and two lots consisting of charcoal items. The two objects not present are one lot consisting of ceramic vessel or vessel fragments, and one lot consisting of faunal remains.

The 14 unassociated funerary objects at Robinson's Mound (Parkin Phase) are one lot consisting of ceramic items, 11 lots consisting of ceramic vessel or vessel fragments, one lot consisting of faunal items, and one lot consisting of clay items.

The 161 unassociated funerary objects at Rose Mound (state site number 3CS27; Parkin Phase) are four lots consisting of ceramic items, 129 lots consisting of ceramic vessel or vessel fragments, 13 lots consisting of faunal items, eight lots consisting of stone items, four lots consisting of clay items, one lot consisting of floral items, and two lots consisting of metal items.

The 39 unassociated funerary objects at Stanley Mounds, also known as Parkin Site (state site number 3CS29; Parkin Phase) are one lot consisting of ceramic items, 33 lots consisting of ceramic vessel or vessel fragments, four lots consisting of faunal items, and one lot consisting of copper items.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, biological information, folklore, geographical information, historical information, kinship, linguistics, oral tradition, other relevant information, or expert opinion.

Determinations

Pursuant to NAGPRA and its implementing regulations, and after consultation with the appropriate Indian Tribes and Native Hawaiian organizations, the PMAE has determined that:

• The 531 cultural items described above are reasonably believed to have been placed with or near individual human remains at the time of death or later as part of the death rite or ceremony and are believed, by a preponderance of the evidence, to have been removed from a specific burial site of a Native American individual.

• There is a relationship of shared group identity that can be reasonably traced between the cultural items and the Quapaw Nation.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 27, 2024. If competing requests for repatriation are received, the PMAE must determine the most appropriate requestor prior to repatriation. Requests for joint repatriation of the cultural items are considered a single request and not competing requests. The PMAE is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3004, and the implementing regulations, 43 CFR 10.9.

Dated: February 16, 2024.
Melanie O'Brien,
Manager, National NAGPRA Program.

[FR Doc. 2024-03802 Filed 2-23-24; 8:45 am]

BILLING CODE 4312-52-P